SURFACE TRANSPORTATION BOARD

[Docket No. FD 36755]

Union Pacific Railroad Company—Trackage Rights Exemption—Omaha Public Power District

Union Pacific Railroad Company (UP), a Class I rail carrier, has filed a verified notice of exemption under 49 CFR 1180.2(d)(7) to extend the term of its trackage rights over 54.8 miles of rail line of Omaha Public Power District (OPPD) between milepost 5.9 near Arbor, Neb., and milepost 56.3 near College View in Lincoln, Neb., and an additional 475-foot section of track extending from milepost 5.9 (the Line).

UP states that it originally acquired these trackage rights pursuant to an agreement dated July 25, 2003. See Union Pac. R.R.—Trackage Rights Exemption—Omaha Pub. Power Dist., FD 34388 (STB served Aug. 22, 2003). The original agreement expired December 31, 2020; UP further states, however, that it and OPPD agreed to negotiate for an extension, and operations under the agreement continued. According to UP, it and OPPD have now executed a new agreement that provides UP with substantially similar trackage rights and will allow operations to continue as they have since 2003 without material changes.¹

¹ UP submitted a confidential version of the new agreement under seal along with a corresponding motion for protective order, which will be addressed in a separate decision.

The transaction may be consummated on or after February 29, 2024, the effective date of the exemption (30 days after the verified notice was filed).

As a condition to this exemption, any employees affected by the extension of the term of trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than February 22, 2024 (at least seven days before the exemption becomes effective).

All pleadings, referring to Docket No. FD 36755, must be filed with the Surface Transportation Board either via e-filing on the Board's website or in writing addressed to 395 E Street SW, Washington, DC 20423-0001. In addition, a copy of each pleading must be served on UP's representative, Tanya Spratt, 1400 Douglas Street, Union Pacific Railroad Company, STOP 1580, Omaha, NE 68179.

According to UP, this action is categorically excluded from environmental review under 49 CFR 1105.6(c) and from historic preservation reporting requirements under 49 CFR 1105.8(b).

Board decisions and notices are available at www.stb.gov.

Decided: February 9, 2024.
By the Board, Mai T. Dinh, Director, Office of Proceedings.
Brendetta Jones,
Clearance Clerk.

[FR Doc. 2024-03117 Filed 2-14-24; 8:45 am]

BILLING CODE 4915-01-P